DEPARTMENT OF THE INTERIOR

Bureau of Land Management

[LLCAD06000 L51010000.ER0000 LVRWB09B2920 19X (MO#4500135014)]

Notice of Availability of the Final Environmental Impact Statement and Environmental Impact Report and Proposed Land Use Plan Amendment to the California Desert Conservation Area Plan for the Desert Quartzite Solar Project

AGENCY: Bureau of Land Management, Interior.

ACTION: Notice of availability.

SUMMARY: In accordance with the National Environmental Policy Act of 1969, as amended, and the Federal Land Policy and Management Act of 1976, as amended, the Bureau of Land Management (BLM) has prepared Final Environmental Impact Statement (EIS) and Proposed Land Use Plan Amendment to the California Desert Conservation Area (CDCA) Plan for the Desert Quartzite Solar Project, and by this notice is announcing its availability. This document is also an Environmental Impact Report (EIR) prepared by Riverside County under the California Environmental Quality Act.

DATES: BLM planning regulations state that any person who meets the conditions as described in the regulations may protest the BLM's Proposed Land Use Plan Amendment and Final EIS. A person who meets the conditions and files a protest must file the protest within 30 days of the date that the Environmental Protection Agency publishes its Notice of Availability in the Federal Register.

ADDRESSES: You may review the Final EIS and Proposed Land Use Plan Amendment at https://tinyurl.com/yy8o33ld. Instructions for filing a protest with the Director of the BLM regarding the Proposed RMP Amendments may be found online at: https://www.blm.gov/programs/planning-and-nepa/public-participation/filing-a-plan-protest and at 43 CFR 1610.6-2.

FOR FURTHER INFORMATION CONTACT: Brandon G. Anderson, BLM Project Manager, telephone (951) 697-5215; address Bureau of Land Management, California Desert District Office, 22835 Calle San Juan de Los Lagos, Moreno Valley, CA 92553; email: blm_ca_desert_quartzite_solar_project@blm.gov. Persons who use a telecommunications device for the deaf (TDD) may call the Federal Relay Service (FRS) at (800) 877-8339 to contact Mr. Anderson during normal business hours. The FRS is available 24 hours a day, 7 days a week, to leave a message or question. You will receive a reply during normal business hours.

SUPPLEMENTARY INFORMATION: Desert Quartzite, LLC, a wholly owned subsidiary of First Solar Inc., applied for a Right-of-Way (ROW) from the BLM to construct, operate, maintain, and decommission a 450 megawatt (MW) solar photovoltaic (PV) facility near the City of Blythe, Riverside County, California. The proposed project includes construction of a 2.8 mile, 230 kilovolt generation interconnection (gen-tie) transmission line connecting the project to the Southern California Edison Colorado River Substation. The BLM is also considering an amendment to the CDCA Plan that would be necessary to authorize the project.

On August 8, 2018, the BLM issued the Draft EIS/EIR and Draft Land Use Plan Amendment, which analyzed the impacts of the Proposed Action and two action alternatives, in addition to a No Action Alternative. Alternative 2, Resource Avoidance Alternative, would be a 450 MW solar PV array on about 2,800 acres. It reduces effects to portions of the sand corridor and cultural resources. Alternative 3, Reduced Project Alternative, would be a 285 MW solar PV project on about 2,100 acres. Like the Proposed Action, under each of these alternatives, the BLM would amend the CDCA Plan to allow the project. Under the No-Action Alternative, the BLM would deny the ROW application, and would not amend the CDCA Plan to allow the project.

The Draft EIS/EIR and Draft Land Use Plan Amendment included analysis of the ROW application as it related to the following issues: (1) Impacts to cultural resources and tribal concerns; (2) Impacts to the sand transport corridor and Mojave fringe-toed lizard habitat and washes; (3) Impacts to BLM sensitive plants; (4) Impacts to avian species; (5) Impacts to visual resources; (6) Impacts to air and water quality; and (7) The relationship between the proposed project and the CDCA Plan, as amended.

The Draft EIS/EIR and Draft Land Use Plan Amendment was available for a 90-day public comment period. The BLM held public meetings on September 26, 2018, and September 27, 2018, in Palm Desert and Blythe, California, respectively. Fourteen individuals attended the meeting on September 26, 2018, and 19 individuals attended the meeting on September 27, 2018. The BLM received 22 comment letters during the comment period.

The BLM considered and incorporated, as appropriate, public comments on the Draft EIS/EIR and Draft Land Use Plan Amendment and internal agency review into the proposed plan amendment. Public comments resulted in the addition of clarifying text, but did not significantly change proposed land use plan decisions. Responses to the substantive comments are included in the Final EIS/EIR and Proposed Land Use Plan Amendment. The gen-tie alignment for Alternative 2 and Alternative 3 was adjusted to avoid a potential conflict with another proposed transmission line project. The adjustment does not substantially change the environmental effects analysis. The BLM has selected Alternative 2, the Resource Avoidance Alternative, as the Agency Proposed Alternative in the Final EIS/EIR and Proposed Land Use Plan Amendment.

All protests must be in writing and submitted, as set forth in the DATES and ADDRESSES sections. The BLM Director will render a written decision on each protest. The decision will be mailed to the protesting party. The decision of the BLM Director shall be the final decision of the Department of the Interior on each protest. Responses to protest issues will be compiled and formalized in a Director's Protest Resolution Report made available following issuance of the decisions.

Upon resolution of all protests, the BLM will issue a Record of Decision, which will include information on any further opportunities for public involvement. Before including your phone number, email address, or other personal identifying information in your protest, you should be aware that your entire protest—including your personal identifying information—may be made publicly available at any time. While you can ask us to withhold your personal identifying information from public review, we cannot guarantee that we will be able to do so.

Authority: 40 CFR 1506.6, 40 CFR 1506.10, 43 CFR 1610.2, 43 CFR 1610.5.

Danielle Chi,
Deputy State Director.

[FR Doc. 2019-20941 Filed 9-26-19; 8:45 am]

BILLING CODE 4310-40-P